DEPARTMENT OF THE INTERIOR

Bureau of Land Management

[NV-050-5853-ES; N-76649]

Notice of Realty Action: Lease/Conveyance for Recreation and Public Purposes

AGENCY: Bureau of Land Management, Interior.

ACTION: Notice of realty action.

SUMMARY: The following described public land in Clark County, Nevada has been examined and found suitable for classification for lease or conveyance to the South Hills Church Community under the provisions of the Recreation and Public Purposes Act, as amended (43 U.S.C. 869 et seq.).

DATES: On April 26, 2004, the land described below will be segregated from all other forms of appropriation under the public land laws, including the general mining laws, except for lease/conveyance under the Recreation and Public Purposes Act, leasing under the mineral leasing laws and disposals under the mineral material disposal laws. Interested parties may submit comments regarding the proposed lease/conveyance or classification of the lands until June 10, 2004.

ADDRESSES: Send written comments to the Field Manager, Las Vegas Field Office, 4701 N. Torrey Pines Drive, Las Vegas, Nevada, 89130. Detailed information concerning this action is available for review at the office of the Bureau of Land Management, Las Vegas Field Office, 4701 N. Torrey Pines Drive, Las Vegas, Nevada, 89130-2301.

FOR FURTHER INFORMATION CONTACT: Sharon DiPinto, Bureau of Land Management, Las Vegas Field Office, at (702) 515-5062.

SUPPLEMENTARY INFORMATION: The South Hills Church Community proposes to use the following land for a church and related facilities:

Mount Diablo Meridian, Nevada

T. 22 S., R. 61 E.,

Sec. 24: N½N½SE¼NE¼.

Containing 10 acres, more or less.

The lease/conveyance is consistent with current Bureau planning for this area and would be in the public interest. The lease/patent, when issued, will be subject to the provisions of the Recreation and Public Purposes Act and applicable regulations of the Secretary of the Interior, and will contain the following reservations to the United States:

1. A right-of-way thereon for ditches or canals constructed by the authority of the United States, Act of August 30, 1890 (43 U.S.C. 945).

2. All minerals shall be reserved to the United States, together with the right to prospect for, mine and remove such deposits from the same under applicable law and such regulations as the Secretary of the Interior may prescribe and will be subject to:

1. An easement in favor of Clark County for roads, public utilities and flood control purposes.

2. All valid existing rights documented on the official public land records at the time of lease/patent issuance.

On February 3, 2004 the South Hills Church Community filed a R&PP application for 10 acres of public land to be developed as a church with related facilities. These related facilities included a multipurpose building (a worship center, offices, classrooms, nursery, kitchen, restrooms, utility/storage rooms and a lobby) and recreation areas with sidewalks, landscaped areas, paved parking areas, and off site improvements. South Hills Church Community is a qualified nonprofit entity. Additional detailed information pertaining to this application, plan of development, and site plans is on file in case file N-76649 located at the address listed above.

Classification Comments: Interested parties may submit comments involving the suitability of the land for a church campus. Comments on the classification are restricted to whether the land is physically suited for the proposal, whether the use will maximize the future use or uses of the land, whether the use is consistent with local planning and zoning, or if the use is consistent with State and Federal programs.

Application Comments: Interested parties may submit comments regarding the specific use proposed in the application and plan of development, whether the BLM followed proper administrative procedures in reaching the decision, or any other factor not directly related to the suitability of the land for a church.

Any adverse comments will be reviewed by the State Director.

In the absence of any adverse comments, the classification of the land described in this notice will become effective June 25, 2004. The lands will not be offered for lease/conveyance until after the classification becomes effective.

Authority: 43 CFR part 2741.

Sharon DiPinto,
Acting Assistant Field Manager, Division of Lands, Las Vegas, NV.

[FR Doc. 04-9317 Filed 4-23-04; 8:45 am]

BILLING CODE 4310-HC-P